COMMITTEE FOR THE IMPLEMENTATION OF TEXTILE AGREEMENTS

Amendment of Import Limits for Certain Cotton, Wool, Man-Made Fiber, Silk Blend and Other Vegetable Fiber Textiles and Textile Products Produced or Manufactured in Taiwan

March 14, 2002.

AGENCY: Committee for the Implementation of Textile Agreements (CITA).

ACTION: Issuing a directive to the Commissioner of Customs amending the 2002 limits.

EFFECTIVE DATE: March 19, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The 2002 import limits for textile products, produced or manufactured in Taiwan and exported during the period January 1, 2002 through December 31, 2002 were published on December 28, 2001 (see 66 FR 67232). That directive implemented stages one, two and three of integration and agreed annual growth, but did not apply accelerated growth. This directive amends these import limits for the application of accelerated growth, as provided by the Agreement on Textiles and Clothing (ATC).

In the letter published below, the Chairman of CITA directs the Commissioner of Customs to amend the 2002 limits.

A description of the textile and apparel categories in terms of HTS numbers is available in the CORRELATION: Textile and Apparel Categories with the Harmonized Tariff Schedule of the United States (see Federal Register notice 66 FR 65178, published on December 18, 2001).

D. Michael Hutchinson,
Acting Chairman, Committee for the Implementation of Textile Agreements.

Committee for the Implementation of Textile Agreements

March 14, 2002.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), this directive amends, but does not cancel, the directive issued to you on December 20, 2001. You are directed to prohibit, effective on March 19, 2002, entry into the United States for consumption and withdrawal from warehouse for consumption of cotton, wool, man-made fiber, silk blend and other vegetable fiber textiles and textile products in the following categories, produced or manufactured in Taiwan and exported during the twelve-month period which begins on January 1, 2002 and extending through December 31, 2002, in excess of the following levels of restraint:

Category | Twelve-month limit
Group I |
200-220, 224, 225/317/326, 226, 227, 300/301, 313-315, 360-363, 369-S ¹, 369-O ², 400-414, 469pt ³, 603, 604, 611, 613/614/615/617, 618, 619/620, 624, 625/626/627/628/629 and 666pt ⁴, as a group | 206,161,651 square meters equivalent.
Sublevels in Group I |
218 | 23,479,835 square meters.
225/317/326 | 41,676,644 square meters.
226 | 7,562,980 square meters.
300/301 | 1,788,159 kilograms of which not more than 1,500,487 kilograms shall be in Category 300; not more than 1,500,487 kilograms shall be in Category 301.
363 | 12,345,797 numbers.
611 | 3,384,364 square meters.
613/614/615/617 | 20,989,490 square meters.
619/620 | 15,427,600 square meters.
625/626/627/628/629 | 20,074,952 square meters.
Group I subgroup |
200, 219, 313, 314, 315, 361, 369-S and 604, as a group | 153,919,331 square meters equivalent.
Within Group I subgroup |
200 | 758,678 kilograms.
219 | 17,266,759 square meters.
313 | 68,854,714 square meters.
314 | 30,756,676 square meters.
315 | 23,567,452 square meters.
361 | 1,524,018 numbers.
369-S | 493,149 kilograms.
604 | 240,280 kilograms.
Group II |
237, 239pt ⁵, 331pt. ⁶, 332, 333/334/335, 336, 338/339, 340-345, 347/348, 351, 352/652, 359-C/659-C ⁷, 659-H ⁸, 359pt. ⁹, 433-438, 440, 442, 443, 444, 445/446, 447/448, 459pt. ¹⁰, 631pt. ¹¹, 633/634/635, 636, 638/639, 640, 641-644, 645/646, 647/648, 651, 659-S ¹², 659pt. ¹³, 846 and 852, as a group | 622,375,380 square meters equivalent.
Sublevels in Group II |
237 | 741,238 dozen.
239pt. | 1,352,222 kilograms.
331pt. | 144,176 dozen pairs.
336 | 126,286 dozen.
338/339 | 834,601 dozen.
340 | 1,123,696 dozen.
345 | 131,954 dozen.
347/348 | 1,064,931 dozen of which not more than 1,064,931 dozen shall be in Categories 347-W/348-W ¹⁴.
352/652 | 3,350,496 dozen.
359-C/659-C | 1,447,633 kilograms.
659-H | 2,354,480 kilograms.
433 | 15,743 dozen.
434 | 10,933 dozen.
435 | 25,959 dozen.
436 | 5,169 dozen.
438 | 29,173 dozen.
440 | 5,651 dozen.
442 | 43,883 dozen.
443 | 44,079 numbers.
444 | 62,778 numbers.
445/446 | 138,335 dozen.
633/634/635 | 1,634,440 dozen of which not more than 959,317 dozen shall be in Categories 633/634 and not more than 850,077 dozen shall be in Category 635.
638/639 | 6,565,058 dozen.
640 | 1,058,909 dozen of which not more than 281,710 dozen shall be in Category 640-Y ¹⁵.
642 | 777,133 dozen.
643 | 524,564 numbers.
644 | 804,130 numbers.
645/646 | 4,107,691 dozen.
647/648 | 5,248,544 dozen of which not more than 5,248,544 dozen shall be in Categories 647-W/648-W ¹⁶.
659-S | 1,601,702 kilograms.
Group II Subgroup |
333/334/335, 341, 342, 351, 447/448, 636, 641 and 651, as a group | 72,708,382 square meters equivalent.
Within Group II Subgroup |
333/334/335 | 324,897 dozen of which not more than 175,987 dozen shall be in Category 335.
341 | 345,508 dozen.
342 | 215,840 dozen.
351 | 359,087 dozen.
447/448 | 21,512 dozen.
636 | 396,193 dozen.
641 | 733,473 dozen of which not more than 256,716 dozen shall be in Category 641-Y ¹⁷.
651 | 450,319 dozen.
Group III |
Sublevel in Group III |
845 | 854,853 dozen.
¹ Category 369-S: only HTS number 6307.10.2005.
² Category 369-O: all HTS numbers except 6307.10.2005 (Category 369-S); 4202.12.4000, 4202.12.8020, 4202.12.8060, 4202.22.4020, 4202.22.4500, 4202.22.8030, 4202.32.4000, 4202.32.9530, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9905, 6307.90.9982, 6406.10.7700, 9404.90.1000, 9404.90.8040 and 9404.90.9505 (Category 369pt.).
³ Category 469pt.: all HTS numbers except 5601.29.0020, 5603.94.1010, 6304.19.3040, 6304.91.0050, 6304.99.1500, 6304.99.6010, 6308.00.0010 and 6406.10.9020.
⁴ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9984, 9404.90.8522 and 9404.90.9522.
⁵ Category 239pt.: only HTS number 6209.20.5040 (diapers).
⁶ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁷ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 659-H: only HTS numbers 6502.00.9030, 6504.00.9015, 6504.00.9060, 6505.90.5090, 6505.90.6090, 6505.90.7090 and 6505.90.8090.
⁹ Category 359pt.: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6115.19.8010, 6117.10.6010, 6117.20.9010, 6203.22.1000, 6204.22.1000, 6212.90.0010, 6214.90.0010, 6505.90.1525, 6505.90.1540, 6505.90.2060 and 6505.90.2545.
¹⁰ Category 459pt.: all HTS numbers except 6115.19.8020, 6117.10.1000, 6117.10.2010, 6117.20.9020, 6212.90.0020, 6214.20.0000, 6405.20.6030, 6405.20.6060, 6405.20.6090, 6406.99.1505 and 6406.99.1560.
¹¹ Category 631pt.: all HTS numbers except 6116.10.1730, 6116.10.4820, 6116.10.5520, 6116.10.7520, 6116.93.8800, 6116.93.9400, 6116.99.4800, 6116.99.5400 and 6116.99.9530.
¹² Category 659-S: only HTS numbers 6112.31.0010, 6112.31.0020, 6112.41.0010, 6112.41.0020, 6112.41.0030, 6112.41.0040, 6211.11.1010, 6211.11.1020, 6211.12.1010 and 6211.12.1020.
¹³ Category 659pt.: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000, 6406.99.1510 and 6406.99.1540.
¹⁴ Category 347-W: only HTS numbers 6203.19.1020, 6203.19.9020, 6203.22.3020, 6203.22.3030, 6203.42.4005, 6203.42.4010, 6203.42.4015, 6203.42.4025, 6203.42.4035, 6203.42.4045, 6203.42.4050, 6203.42.4060, 6203.49.8020, 6210.40.9033, 6211.20.1520, 6211.20.3810 and 6211.32.0040; Category 348-W: only HTS numbers 6204.12.0030, 6204.19.8030, 6204.22.3040, 6204.22.3050, 6204.29.4034, 6204.62.3000, 6204.62.4005, 6204.62.4010, 6204.62.4020, 6204.62.4030, 6204.62.4040, 6204.62.4050, 6204.62.4055, 6204.62.4065, 6204.69.6010, 6204.69.9010, 6210.50.9060, 6211.20.1550, 6211.20.6810, 6211.42.0030 and 6217.90.9050.
¹⁵ Category 640-Y: only HTS numbers 6205.30.2010, 6205.30.2020, 6205.30.2050 and 6205.30.2060.
¹⁶ Category 647-W: only HTS numbers 6203.23.0060, 6203.23.0070, 6203.29.2030, 6203.29.2035, 6203.43.2500, 6203.43.3500, 6203.43.4010, 6203.43.4020, 6203.43.4030, 6203.43.4040, 6203.49.1500, 6203.49.2015, 6203.49.2030, 6203.49.2045, 6203.49.2060, 6203.49.8030, 6210.40.5030, 6211.20.1525, 6211.20.3820 and 6211.33.0030; Category 648-W: only HTS numbers 6204.23.0040, 6204.23.0045, 6204.29.2020, 6204.29.2025, 6204.29.4038, 6204.63.2000, 6204.63.3000, 6204.63.3510, 6204.63.3530, 6204.63.3532, 6204.63.3540, 6204.69.2510, 6204.69.2530, 6204.69.2540, 6204.69.2560, 6204.69.6030, 6204.69.9030, 6210.50.5035, 6211.20.1555, 6211.20.6820, 6211.43.0040 and 6217.90.9060.
¹⁷ Category 641-Y: only HTS numbers 6204.23.0050, 6204.29.2030, 6206.40.3010 and 6206.40.3025.

The limits set forth above are subject to adjustment pursuant to the provisions of the ATC and administrative arrangements notified to the Textiles Monitoring Body.

The conversion factors are as follows:

Category | Conversion factors (square meters equivalent/category unit)
333/334/335 | 33.75
352/652 | 11.3
359-C/659-C | 10.1
633/634/635 | 34.1
638/639 | 12.5

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 02-6597 Filed 3-18-02; 8:45 am]

BILLING CODE 3510-DR-S